DEPARTMENT OF THE INTERIOR

National Park Service

Notice of Inventory Completion: Raymond M. Alf Museum of Paleontology, Claremont, CA

AGENCY: National Park Service, Interior.

ACTION: Notice.

Notice is here given in accordance with the Native American Graves Protection and Repatriation Act (NAGPRA), 25 U.S.C. 3003, of the completion of an inventory of human remains in the control of the Raymond M. Alf Museum of Paleontology, Claremont, CA. The human remains were removed from Kern County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Raymond M. Alf Museum of Paleontology professional staff and University of California Los Angeles professional staff member Archeologist Gail Kennedy, in consultation with representatives of the Santa Rosa Indian Community of the Santa Rosa Rancheria, California (Tachi Yokut Tribe).

In 1968-1969, human remains representing a minimum of one individual were removed from Kern Valley, Bull Run Creek along the west bank of the Kern River and directly west of the River Kern community, or six miles north of Kernville, Kern County, CA, in an attempt to protect the bones from erosion. No known individual was identified. No associated funerary objects are present.

This site has been identified as a habitation site of the Tubatulabal. The Tubatulabal were loosely organized into three discrete bands called Pahkanapil, Palagewan, and Bankalachi (Smithsonian, Handbook of North American Indians, Book 8, 1978). The Tubatulabal are considered Kern River Indians, speak an Uto-Aztecan language, and live in the Kern River/Lake Isabella area, which include the south fork (Palagewan) and the lower Kern River below the south fork (Tubatulabal). Their neighbors are the Kawaiisu and the Yokuts. The Bankalachi, which were a few miles from the Palagewan, resided in Yokuts territory. In 1857, the Kern River gold rush began in Palagewan territory. During 1862, a few Tubatulabal joined the Owens Valley Paiute in hostilities against the Whites, and about this time, a group of Koso Indians settled in the Tubatulabal area, intermarrying with the Kawaiisu. In 1863, American soldiers killed 35-40 Tubatulabal and Palagewan men near Kernville. Between 1865 and 1875, the Tubatulabal began to practice agriculture and in 1893, the majority of them and a few Palagewan survivors were allotted land in South Fork and Kern Valleys. From 1900 to 1972, many Tubatulabals moved to the Tule River Indian Reservation, north of the Kern valley region. It is reasonably believed that those that survived intermarried with the Yokut in the Kern County area. Descendants of these Yokut are members of the federally-recognized Santa Rosa Indian Community of the Santa Rosa Rancheria, California (Tachi Yokut Tribe) and Tule River Indian Tribe of the Tule River Reservation, California.

Officials of the Raymond M. Alf Museum of Paleontology have determined that, pursuant to 25 U.S.C. 3001 (9-10), the human remains described above represent the physical remains of one individual of Native American ancestry. Officials of the Raymond M. Alf Museum of Paleontology also have determined that, pursuant to 25 U.S.C. 3001 (2), there is a relationship of shared group identity that can be reasonably traced between the Native American human remains and the Santa Rosa Indian Community of the Santa Rosa Rancheria, California and Tule River Indian Tribe of the Tule River Reservation, California.

Representatives of any other Indian tribe that believes itself to be culturally affiliated with the human remains should contact Don Lofgren, Director, Raymond M. Alf Museum of Paleontology, 1175 West Baseline Road, Claremont, CA 91711, telephone (909) 624-2798, before July 17, 2008. Repatriation of the human remains to the Santa Rosa Indian Community of the Santa Rosa Rancheria, California may proceed after that date if no additional claimants come forward.

Raymond M. Alf Museum of Paleontology is responsible for notifying the Santa Rosa Indian Community of the Santa Rosa Rancheria, California and Tule River Indian Tribe of the Tule River Reservation, California that this notice has been published.

Dated: May 4, 2008
Sherry Hutt,
Manager, National NAGPRA Program.

[FR Doc. E8-13569 Filed 6-16-08; 8:45 am]

BILLING CODE 4312-50-S